DEPARTMENT OF JUSTICE

Notice of Lodging of Proposed Consent Decree Under the Clean Water Act

On May 27, 2015, the Department of Justice lodged a proposed Consent Decree with the United States District Court for the District of Puerto Rico in the lawsuit entitled United States v. F&R Contractors Corp. and F&R Contractors LLC, Civil Action No. 3:15-cv-01666.

This settlement resolves the United States' allegations that Defendants F&R Contractors Corp. and F&R Contractors LLC violated the Clean Water Act (“Act”) and its implementing regulations and permits at three construction sites in Puerto Rico operated by the Defendants. The United States' claims against Defendants allege the: (1) Discharge of stormwater pollutants to waters of the United States without the requisite National Pollution Discharge Elimination System permit, in violation of Section 301 of the Act; and (2) failure to implement the conditions of the Federal Construction General Permit, issued pursuant to Section 402 of the Act, for the discharge of stormwater pollutants from construction sites. This settlement is binding on both Defendants and F&R Construction Group, Inc., a voluntary party to the proposed Consent Decree (collectively, “the Settling Parties”).

The proposed Consent Decree will require the Settling Parties to implement comprehensive injunctive relief to ensure compliance with the Clean Water Act and applicable permit requirements at all construction sites operated by the Settling Parties. The injunctive relief includes creating key company-wide and site-specific staffing positions to oversee and implement a stormwater compliance program, adopting companywide practices to hold pre-construction meetings and inspections, and providing comprehensive stormwater compliance training for employees and contractors with operational responsibilities at a construction site. The Settling Parties will also pay a $500,000 civil penalty.

The publication of this notice opens a period for public comment on the Consent Decree. Comments should be addressed to the Assistant Attorney General, Environment and Natural Resources Division, and should refer to United States v. F&R Contractors Corp. and F&R Contractors LLC, D.J. Ref. No. 90-5-1-1-09628. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $27.25 (25 cents per page reproduction cost) payable to the United States Treasury. For a paper copy without the exhibits and signature pages, the cost is $15.50.

Maureen M. Katz,
Assistant Section Chief, Environmental Enforcement Section, Environment and Natural Resources Division.

[FR Doc. 2015-13602 Filed 6-3-15; 8:45 am]

BILLING CODE 4410-15-P